ENVIRONMENTAL PROTECTION AGENCY

40 CFR Part 60

Standards of Performance for New Stationary Sources

CFR Correction

In Title 40 of the Code of Federal Regulations, Part 60 (§ 60.1 to end of part 60 sections), revised as of July 1, 2015, make the following corrections:

1. Reinstate the symbol < in the following places:

a. On page 85, in § 60.13, paragraph (h)(2)(viii), before the term “30 minutes”;

b. On page 667, in § 60.562-1, paragraph (a)(1)(ii) table 3, in row 1., in the second column, after “0.10” and before “5.5”;

c. On page 667, in § 60.562-1, paragraph (a)(1)(ii) table 3, in row 3., in the second column, after “5.5” and before “20”;

d. On page 706, in § 60.614, (f)(2) table 2, in the first column, in the first two entries, after “HT”;

e. On page 719, in § 60.643, paragraph (a)(1)(ii), after “R”;

f. On page 734, in § 60.664, paragraph (f)(2) table 2, in the first column, in the first two entries, after “HT”;

g. On page 1208, in § 60.5410, paragraph (g)(1)(ii), after “R”;

h. On page 1222, in § 60.5415, paragraph (g)(1)(ii), after “R”.

2. Reinstate the symbol ≤, in the following places:

a. On page 501, in § 60.332, paragraph (a)(4), in the first row of the table, after “N” and before “.015”,

b. On pages 1111-1112, in table 1 to subpart KKKK, in the second column, before the number “50” in the first, second, fifth, sixth, and ninth entries;

c. On pages 1111-1112, in table 1 to subpart KKKK, in the second column, before the number “850” in the third, seventh, tenth and eleventh entries'

d. On pages 1111-1112, in table 1 to subpart KKKK, in the second column, before the number “30” in the twelfth entry.

a. On page 649, in § 60.543, paragraph (f)(2)(iv)(I), after “(n” and before “3)”;

b. On page 706, in § 60.614, (f)(2) table 2, in the first column, in the third and fourth entries, after “HT”;

c. On page 719, in § 60.643, paragraph (a)(1)(i), after “R”;

d. On page 734, in § 60.664, paragraph (f)(2) table 2, in the first column, in the third and fourth entries, after “HT”;

e. On page 1208, in § 60.5410, paragraph (g)(1)(i), after “R”;

f. On page 1222, in § 60.5415, paragraph (g)(1)(i), after “R”.

4. Reinstate the symbol > in the following places:

a. On pages 1111-1112, in table 1 to subpart KKKK, in the second column, before the number “50” in the third, seventh, tenth, and eleventh entries;

b. On pages 1111-1112, in table 1 to subpart KKKK, in the second column, before the number “850” in the fourth and eighth entries;

c. On pages 1112, in table 1 to subpart KKKK, in the second column, before the number “30” in the thirteenth entry.

[FR Doc. 2016-15707 Filed 6-29-16; 8:45 am]

BILLING CODE 1505-01-D